FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A copy of the agreement is available through the Commission's Web site http://www.fmc.gov or by contacting the Office of Agreements at (202) 523-5793 or tradeanalysis@fmc.gov.

Agreement No.: 011545-003.

Title: Agreement Between CSAV and Mitsui.

Parties: Compania Sud Americana de Vapores, S.A. and Mitsui O.S.K. Lines, Ltd.

Filing Party: Walter H. Lion, Esq.; McLaughlin & Stern, LLP; 260 Madison Avenue; New York, NY 10016.

Synopsis: The amendment expands the geographic scope of the agreement to include ports in Turkey and North Europe, including the United Kingdom.

Dated: December 3, 2010.
By Order of the Federal Maritime Commission.
Rachel E. Dickon,
Assistant Secretary.

[FR Doc. 2010-30882 Filed 12-7-10; 8:45 am]

BILLING CODE 6730-01-P